NUCLEAR REGULATORY COMMISSION

[NRC-2019-0174]

Biweekly Notice; Applications and Amendments to Facility Operating Licenses and Combined Licenses Involving No Significant Hazards Considerations

AGENCY: Nuclear Regulatory Commission.

ACTION: Biweekly notice.

SUMMARY: Pursuant to the Atomic Energy Act of 1954, as amended (the Act), the U.S. Nuclear Regulatory Commission (NRC) is publishing this regular biweekly notice. The Act requires the Commission to publish notice of any amendments issued, or proposed to be issued, and grants the Commission the authority to issue and make immediately effective any amendment to an operating license or combined license, as applicable, upon a determination by the Commission that such amendment involves no significant hazards consideration, notwithstanding the pendency before the Commission of a request for a hearing from any person.

This biweekly notice includes all notices of amendments issued, or proposed to be issued, from August 13, 2019 to August 26, 2019. The last biweekly notice was published on August 29, 2019.

DATES: Comments must be filed by October 10, 2019. A request for a hearing must be filed by November 12, 2019.

ADDRESSES: You may submit comments by any of the following methods:

• Federal Rulemaking Website: Go to https://www.regulations.gov and search for Docket ID NRC-2019-0174. Address questions about NRC docket IDs in Regulations.gov to Jennifer Borges; telephone: 301-287-9127; email: Jennifer.Borges@nrc.gov. For technical questions, contact the individual listed in the FOR FURTHER INFORMATION CONTACT section of this document.

• Mail comments to: Office of Administration, Mail Stop: TWFN-7-A60M, U.S. Nuclear Regulatory Commission, Washington, DC 20555-0001, ATTN: Program Management, Announcements and Editing Staff.

For additional direction on obtaining information and submitting comments, see “Obtaining Information and Submitting Comments” in the SUPPLEMENTARY INFORMATION section of this document.

FOR FURTHER INFORMATION CONTACT: Lynn Ronewicz, Office of Nuclear Reactor Regulation, U.S. Nuclear Regulatory Commission, Washington DC 20555-0001; telephone: 301-415-1927, email: Lynn.Ronewicz@nrc.gov.

SUPPLEMENTARY INFORMATION:

I. Obtaining Information and Submitting Comments

A. Obtaining Information

Please refer to Docket ID NRC-2019-0174, facility name, unit number(s), plant docket number, application date, and subject when contacting the NRC about the availability of information for this action. You may obtain publicly-available information related to this action by any of the following methods:

• Federal Rulemaking Website: Go to https://www.regulations.gov and search for Docket ID NRC-2019-0174.

• NRC's Agencywide Documents Access and Management System (ADAMS): You may obtain publicly-available documents online in the ADAMS Public Documents collection at https://www.nrc.gov/reading-rm/adams.html. To begin the search, select “Begin Web-based ADAMS Search.” For problems with ADAMS, please contact the NRC's Public Document Room (PDR) reference staff at 1-800-397-4209, 301-415-4737, or by email to pdr.resource@nrc.gov. The ADAMS accession number for each document referenced (if it is available in ADAMS) is provided the first time that it is mentioned in this document.

• NRC's PDR: You may examine and purchase copies of public documents at the NRC's PDR, Room O1-F21, One White Flint North, 11555 Rockville Pike, Rockville, Maryland 20852.

B. Submitting Comments

Please include Docket ID NRC-2019-0174 facility name, unit number(s), plant docket number, application date, and subject in your comment submission.

The NRC cautions you not to include identifying or contact information that you do not want to be publicly disclosed in your comment submission. The NRC will post all comment submissions at https://www.regulations.gov as well as enter the comment submissions into ADAMS. The NRC does not routinely edit comment submissions to remove identifying or contact information.

If you are requesting or aggregating comments from other persons for submission to the NRC, then you should inform those persons not to include identifying or contact information that they do not want to be publicly disclosed in their comment submission. Your request should state that the NRC does not routinely edit comment submissions to remove such information before making the comment submissions available to the public or entering the comment into ADAMS.

II. Background

Pursuant to Section 189a.(2) of the Atomic Energy Act of 1954, as amended (the Act), the U.S. Nuclear Regulatory Commission (NRC) is publishing this regular biweekly notice. The Act requires the Commission to publish notice of any amendments issued, or proposed to be issued, and grants the Commission the authority to issue and make immediately effective any amendment to an operating license or combined license, as applicable, upon a determination by the Commission that such amendment involves no significant hazards consideration, notwithstanding the pendency before the Commission of a request for a hearing from any person.

III. Notice of Consideration of Issuance of Amendments to Facility Operating Licenses and Combined Licenses and Proposed No Significant Hazards Consideration Determination

The Commission has made a proposed determination that the following amendment requests involve no significant hazards consideration. Under the Commission's regulations in section 50.92 of title 10 of the Code of Federal Regulations (10 CFR), this means that operation of the facility in accordance with the proposed amendment would not (1) involve a significant increase in the probability or consequences of an accident previously evaluated; or (2) create the possibility of a new or different kind of accident from any accident previously evaluated; or (3) involve a significant reduction in a margin of safety. The basis for this proposed determination for each amendment request is shown below.

The Commission is seeking public comments on this proposed determination. Any comments received within 30 days after the date of publication of this notice will be considered in making any final determination.

Normally, the Commission will not issue the amendment until the expiration of 60 days after the date of publication of this notice. The Commission may issue the license amendment before expiration of the 60-day period provided that its final determination is that the amendment involves no significant hazards consideration. In addition, the Commission may issue the amendment prior to the expiration of the 30-day comment period if circumstances change during the 30-day comment period such that failure to act in a timely way would result, for example in derating or shutdown of the facility. If the Commission takes action prior to the expiration of either the comment period or the notice period, it will publish in the Federal Register a notice of issuance. If the Commission makes a final no significant hazards consideration determination, any hearing will take place after issuance. The Commission expects that the need to take this action will occur very infrequently.

A. Opportunity To Request a Hearing and Petition for Leave To Intervene

Within 60 days after the date of publication of this notice, any persons (petitioner) whose interest may be affected by this action may file a request for a hearing and petition for leave to intervene (petition) with respect to the action. Petitions shall be filed in accordance with the Commission's “Agency Rules of Practice and Procedure” in 10 CFR part 2. Interested persons should consult a current copy of 10 CFR 2.309. The NRC's regulations are accessible electronically from the NRC Library on the NRC's website at https://www.nrc.gov/reading-rm/doc-collections/cfr/. Alternatively, a copy of the regulations is available at the NRC's Public Document Room, located at One White Flint North, Room O1-F21, 11555 Rockville Pike (first floor), Rockville, Maryland 20852. If a petition is filed, the Commission or a presiding officer will rule on the petition and, if appropriate, a notice of a hearing will be issued.

As required by 10 CFR 2.309(d) the petition should specifically explain the reasons why intervention should be permitted with particular reference to the following general requirements for standing: (1) The name, address, and telephone number of the petitioner; (2) the nature of the petitioner's right under the Act to be made a party to the proceeding; (3) the nature and extent of the petitioner's property, financial, or other interest in the proceeding; and (4) the possible effect of any decision or order which may be entered in the proceeding on the petitioner's interest.

In accordance with 10 CFR 2.309(f), the petition must also set forth the specific contentions which the petitioner seeks to have litigated in the proceeding. Each contention must consist of a specific statement of the issue of law or fact to be raised or controverted. In addition, the petitioner must provide a brief explanation of the bases for the contention and a concise statement of the alleged facts or expert opinion which support the contention and on which the petitioner intends to rely in proving the contention at the hearing. The petitioner must also provide references to the specific sources and documents on which the petitioner intends to rely to support its position on the issue. The petition must include sufficient information to show that a genuine dispute exists with the applicant or licensee on a material issue of law or fact. Contentions must be limited to matters within the scope of the proceeding. The contention must be one which, if proven, would entitle the petitioner to relief. A petitioner who fails to satisfy the requirements at 10 CFR 2.309(f) with respect to at least one contention will not be permitted to participate as a party.

Those permitted to intervene become parties to the proceeding, subject to any limitations in the order granting leave to intervene. Parties have the opportunity to participate fully in the conduct of the hearing with respect to resolution of that party's admitted contentions, including the opportunity to present evidence, consistent with the NRC's regulations, policies, and procedures.

Petitions must be filed no later than 60 days from the date of publication of this notice. Petitions and motions for leave to file new or amended contentions that are filed after the deadline will not be entertained absent a determination by the presiding officer that the filing demonstrates good cause by satisfying the three factors in 10 CFR 2.309(c)(1)(i) through (iii). The petition must be filed in accordance with the filing instructions in the “Electronic Submissions (E-Filing)” section of this document.

If a hearing is requested, and the Commission has not made a final determination on the issue of no significant hazards consideration, the Commission will make a final determination on the issue of no significant hazards consideration. The final determination will serve to establish when the hearing is held. If the final determination is that the amendment request involves no significant hazards consideration, the Commission may issue the amendment and make it immediately effective, notwithstanding the request for a hearing. Any hearing would take place after issuance of the amendment. If the final determination is that the amendment request involves a significant hazards consideration, then any hearing held would take place before the issuance of the amendment unless the Commission finds an imminent danger to the health or safety of the public, in which case it will issue an appropriate order or rule under 10 CFR part 2.

A State, local governmental body, Federally-recognized Indian Tribe, or agency thereof, may submit a petition to the Commission to participate as a party under 10 CFR 2.309(h)(1). The petition should state the nature and extent of the petitioner's interest in the proceeding. The petition should be submitted to the Commission no later than 60 days from the date of publication of this notice. The petition must be filed in accordance with the filing instructions in the “Electronic Submissions (E-Filing)” section of this document, and should meet the requirements for petitions set forth in this section, except that under 10 CFR 2.309(h)(2) a State, local governmental body, or Federally-recognized Indian Tribe, or agency thereof does not need to address the standing requirements in 10 CFR 2.309(d) if the facility is located within its boundaries. Alternatively, a State, local governmental body, Federally-recognized Indian Tribe, or agency thereof may participate as a non-party under 10 CFR 2.315(c).

If a hearing is granted, any person who is not a party to the proceeding and is not affiliated with or represented by a party may, at the discretion of the presiding officer, be permitted to make a limited appearance pursuant to the provisions of 10 CFR 2.315(a). A person making a limited appearance may make an oral or written statement of his or her position on the issues but may not otherwise participate in the proceeding. A limited appearance may be made at any session of the hearing or at any prehearing conference, subject to the limits and conditions as may be imposed by the presiding officer. Details regarding the opportunity to make a limited appearance will be provided by the presiding officer if such sessions are scheduled.

B. Electronic Submissions (E-Filing)

All documents filed in NRC adjudicatory proceedings, including a request for hearing and petition for leave to intervene (petition), any motion or other document filed in the proceeding prior to the submission of a request for hearing or petition to intervene, and documents filed by interested governmental entities that request to participate under 10 CFR 2.315(c), must be filed in accordance with the NRC's E-Filing rule (72 FR 49139; August 28, 2007, as amended at 77 FR 46562; August 3, 2012). The E-Filing process requires participants to submit and serve all adjudicatory documents over the internet, or in some cases to mail copies on electronic storage media. Detailed guidance on making electronic submissions may be found in the Guidance for Electronic Submissions to the NRC and on the NRC website at https://www.nrc.gov/site-help/e-submittals.html. Participants may not submit paper copies of their filings unless they seek an exemption in accordance with the procedures described below.

To comply with the procedural requirements of E-Filing, at least 10 days prior to the filing deadline, the participant should contact the Office of the Secretary by email at hearing.docket@nrc.gov, or by telephone at 301-415-1677, to (1) request a digital identification (ID) certificate, which allows the participant (or its counsel or representative) to digitally sign submissions and access the E-Filing system for any proceeding in which it is participating; and (2) advise the Secretary that the participant will be submitting a petition or other adjudicatory document (even in instances in which the participant, or its counsel or representative, already holds an NRC-issued digital ID certificate). Based upon this information, the Secretary will establish an electronic docket for the hearing in this proceeding if the Secretary has not already established an electronic docket.

Information about applying for a digital ID certificate is available on the NRC's public website at https://www.nrc.gov/site-help/e-submittals/getting-started.html. Once a participant has obtained a digital ID certificate and a docket has been created, the participant can then submit adjudicatory documents. Submissions must be in Portable Document Format (PDF). Additional guidance on PDF submissions is available on the NRC's public website at https://www.nrc.gov/site-help/electronic-sub-ref-mat.html. A filing is considered complete at the time the document is submitted through the NRC's E-Filing system. To be timely, an electronic filing must be submitted to the E-Filing system no later than 11:59 p.m. Eastern Time on the due date. Upon receipt of a transmission, the E-Filing system time-stamps the document and sends the submitter an email notice confirming receipt of the document. The E-Filing system also distributes an email notice that provides access to the document to the NRC's Office of the General Counsel and any others who have advised the Office of the Secretary that they wish to participate in the proceeding, so that the filer need not serve the document on those participants separately. Therefore, applicants and other participants (or their counsel or representative) must apply for and receive a digital ID certificate before adjudicatory documents are filed so that they can obtain access to the documents via the E-Filing system.

A person filing electronically using the NRC's adjudicatory E-Filing system may seek assistance by contacting the NRC's Electronic Filing Help Desk through the “Contact Us” link located on the NRC's public website at https://www.nrc.gov/site-help/e-submittals.html, by email to MSHD.Resource@nrc.gov, or by a toll-free call at 1-866-672-7640. The NRC Electronic Filing Help Desk is available between 9 a.m. and 6 p.m., Eastern Time, Monday through Friday, excluding government holidays.

Participants who believe that they have a good cause for not submitting documents electronically must file an exemption request, in accordance with 10 CFR 2.302(g), with their initial paper filing stating why there is good cause for not filing electronically and requesting authorization to continue to submit documents in paper format. Such filings must be submitted by: (1) First class mail addressed to the Office of the Secretary of the Commission, U.S. Nuclear Regulatory Commission, Washington, DC 20555-0001, Attention: Rulemaking and Adjudications Staff; or (2) courier, express mail, or expedited delivery service to the Office of the Secretary, 11555 Rockville Pike, Rockville, Maryland 20852, Attention: Rulemaking and Adjudications Staff. Participants filing adjudicatory documents in this manner are responsible for serving the document on all other participants. Filing is considered complete by first-class mail as of the time of deposit in the mail, or by courier, express mail, or expedited delivery service upon depositing the document with the provider of the service. A presiding officer, having granted an exemption request from using E-Filing, may require a participant or party to use E-Filing if the presiding officer subsequently determines that the reason for granting the exemption from use of E-Filing no longer exists.

Documents submitted in adjudicatory proceedings will appear in the NRC's electronic hearing docket which is available to the public at https://adams.nrc.gov/ehd, unless excluded pursuant to an order of the Commission or the presiding officer. If you do not have an NRC-issued digital ID certificate as described above, click “cancel” when the link requests certificates and you will be automatically directed to the NRC's electronic hearing dockets where you will be able to access any publicly available documents in a particular hearing docket. Participants are requested not to include personal privacy information, such as social security numbers, home addresses, or personal phone numbers in their filings, unless an NRC regulation or other law requires submission of such information. For example, in some instances, individuals provide home addresses in order to demonstrate proximity to a facility or site. With respect to copyrighted works, except for limited excerpts that serve the purpose of the adjudicatory filings and would constitute a Fair Use application, participants are requested not to include copyrighted materials in their submission.

For further details with respect to these license amendment applications, see the application for amendment which is available for public inspection in ADAMS and at the NRC's PDR. For additional direction on accessing information related to this document, see the “Obtaining Information and Submitting Comments” section of this document.

Duke Energy Carolinas, LLC, Docket Nos. 50-413 and 50-414, Catawba Nuclear Station, Units 1 and 2, York County, South Carolina

Duke Energy Carolinas, LLC, Docket Nos. 50-369 and 50-370, McGuire Nuclear Station, Units 1 and 2, Mecklenburg County, North Carolina

Duke Energy Carolinas, LLC, Docket Nos. 50-269, 50-270, and 50-287, Oconee Nuclear Station, Units 1, 2, and 3, Oconee County, South Carolina

Duke Energy Progress, LLC, Docket Nos. 50-325 and 50-324, Brunswick Steam Electric Plant, Units 1 and 2, Brunswick County, North Carolina

Duke Energy Progress, LLC, Docket No. 50-261, H. B. Robinson Steam Electric Plant, Unit No. 2, Darlington County, South Carolina

Duke Energy Progress, LLC, Docket No. 50-400, Shearon Harris Nuclear Power Plant, Unit 1, Wake County, North Carolina

Date of amendment request: July 8, 2019. A publicly-available version is in ADAMS under Accession No. ML19189A033.

Description of amendment request: The amendments would revise the technical specifications for each facility to relocate the staff qualification requirements to the Duke Energy Corporation quality assurance program description.

Basis for proposed no significant hazards consideration determination: As required by 10 CFR 50.91(a), the licensee has provided its analysis of the issue of no significant hazards consideration, which is presented below:

1. Does the proposed amendment involve a significant increase in the probability or consequences of an accident previously evaluated?

Response: No.

The proposed change is administrative in nature, does not make any physical changes to the plants, and does not alter accident analysis assumptions, add any initiators or affect the function of plant systems, or the manner in which systems are operated, maintained, tested, or inspected. The proposed change does not require any plant modifications which affect the performance capability of the structures, systems and components relied upon to mitigate the consequences of postulated accidents. The unit/facility staff qualification requirements remain the same and are being relocated from the Technical Specifications (TS) to the Duke Energy Quality Assurance Program Description (QAPD).

Therefore, it is concluded that this change does not involve a significant increase in the probability or consequences of an accident previously evaluated.

2. Does the proposed amendment create the possibility of a new or different kind of accident from any accident previously evaluated?

Response: No.

The proposed change does not involve changes to unit/facility staff selection, qualification and training programs. The proposed change is administrative in nature and does not impact physical plant systems. The qualification standards are being relocated from the TS to the Duke Energy QAPD. As a result, the ability of the plant to respond to and mitigate accidents is unchanged by the proposed change. The proposed change does not alter accident analysis assumptions, add any initiators, or affect the function of plant systems or the manner in which systems are operated, maintained, modified, tested, or inspected.

Therefore, it is concluded that this change does not create the possibility of a new or different kind of accident from any accident previously evaluated.

3. Does the proposed amendment involve a significant reduction in a margin of safety?

Response: No.

The proposed change is administrative in nature. The proposed change does not affect plant design, hardware, system operation, or procedures for accident mitigation system. The proposed change does not impact any plant safety margins that are established in existing limiting conditions for operation, limiting safety systems settings and specified safety limits. There is no change in the established safety margins of these systems. The proposed change does not impact the performance or proficiency requirements for licensed operators or unit/facility staff, since the qualification standards are not changing and are only being relocated from the TS to the Duke Energy QAPD. As a result, the ability of the plant to respond to and mitigate accidents is unchanged by the proposed change.

Therefore, the proposed change does not involve a significant reduction in a margin of safety.

The NRC staff has reviewed the licensee's analysis and, based on this review, it appears that the three standards of 10 CFR 50.92(c) are satisfied. Therefore, the NRC staff proposes to determine that the amendment request involves no significant hazards consideration.

Attorney for licensee: Kathryn B. Nolan, Deputy General Counsel, Duke Energy Corporation, 550 South Tryon Street, Mail Code DEC45A, Charlotte, NC 28202.

NRC Branch Chief: Undine Shoop.

Entergy Operations, Inc., Docket No. 50-368, Arkansas Nuclear One, Unit 2 (ANO-2), Pope County, Arkansas

Date of amendment request: December 19, 2018, as supplemented by letters dated April 30, 2019, and June 18, 2019. Publicly-available versions are in ADAMS under Accession Nos. ML18353B049, ML19120A084, and ML19169A222, respectively.

Description of amendment request: The amendment would revise the ANO-2 Technical Specifications (TSs) by establishing Actions and Allowable Outage Times applicable to conditions where the ANO-2 containment building sump is inoperable. In addition, the amendment would add an Action Note to TS 3.6.2.3, “Containment Cooling System,” which supports the proposed new containment sump specification. The proposed changes are intended to support the licensee's resolution of Generic Safety Issue (GSI)-191, “Assessment of Debris Accumulation on PWR [Pressurized-Water Reactor] Sump Performance.”

The license amendment request was originally noticed in the Federal Register on March 12, 2019 (84 FR 8909). This notice is being reissued in its entirety to include the revised scope, description of the amendment request, and proposed no significant hazards consideration determination based on the supplemental letter dated June 18, 2019.

Basis for proposed no significant hazards consideration determination: As required by 10 CFR 50.91(a), the licensee has provided its analysis of the issue of no significant hazards consideration, which is presented below:

1. Does the proposed change involve a significant increase in the probability or consequences of an accident previously evaluated?

Response: No.

The proposed change adds a new specification to the TS for the containment sump and adds an Action Note to Containment Cooling System (CCS) TS 3.6.2.3. An existing SR [Surveillance Requirement] on the containment sump is moved to the new specification. The new specification retains the existing requirements on the containment sump and the actions to be taken when the containment sump is inoperable with the exception of adding new actions to be taken when the containment sump is inoperable due to containment accident generated and transported debris exceeding the analyzed limits. The new action provides time to evaluate and correct the condition instead of requiring an immediate plant shutdown.

The addition of an Action Note to TS 3.6.2.3 continues to require inoperable Containment Cooling groups to be restored to an operable status with the time frames established in the current specification while avoiding an unnecessary shutdown when one or more Containment Cooling groups are inoperable coincident with the containment sump being inoperable solely due to containment accident generated and transported debris exceeding the analyzed limits.

The containment sump and the CCS are not initiators of any accident previously evaluated. The containment sump is a passive component and the proposed change does not increase the likelihood of the malfunction. No physical change to the containment sump or CCS or change to any operation or testing requirements is involved with this amendment request. As a result, the probability of an accident is unaffected by the proposed change.

The containment sump is used to mitigate accidents previously evaluated by providing a borated water source for the Emergency Core Cooling System (ECCS) and Containment Spray System (CSS). The CCS ensures that 1) the containment air temperature will be maintained within limits during normal operation, and 2) adequate heat removal capacity is available when operated in conjunction with the CSS during post-Loss of Coolant Accident (LOCA) conditions. The design and capability of the containment sump and CCS assumed in the accident analysis are not changed. The proposed action requires implementation of mitigating actions while the containment sump is inoperable and more frequent monitoring of reactor coolant leakage to detect any increased potential for an accident that would require the containment sump. In addition, the new TS 3.6.2.3 Action Note does not change the current time allowances for restoration of inoperable Containment Cooling groups to an operable status. The consequences of an accident during the proposed action are no different than the current consequences of an accident if the containment sump is inoperable.

Therefore, the proposed change does not involve a significant increase in the probability or consequences of an accident previously evaluated.

2. Does the proposed change create the possibility of a new or different kind of accident from any accident previously evaluated?

Response: No.

The proposed change adds a new specification to the TS for the containment sump and adds an Action Note to CCS TS 3.6.2.3. An existing SR on the containment sump is moved to the new specification. The new containment sump specification retains the existing requirements on the containment sump and the actions to be taken when the containment sump is inoperable with the exception of adding new actions to be taken when the containment sump is inoperable due to containment accident generated and transported debris exceeding the analyzed limits. The new action provides time to evaluate and correct the condition instead of requiring an immediate plant shutdown.

The addition of an Action Note to TS 3.6.2.3 continues to require inoperable Containment Cooling groups to be restored to an operable status with the time frames established in the current specification while avoiding an unnecessary shutdown when one or more Containment Cooling groups are inoperable coincident with the containment sump being inoperable solely due to containment accident generated and transported debris exceeding the analyzed limits.

The proposed change does not alter the design or design function of the containment sump, the CCS, or the plant. No new systems are installed or removed as part of the proposed change. The containment sump is a passive component and cannot initiate a malfunction or accident. Likewise, the CCS is an accident mitigation system and cannot cause an accident condition. No new credible accident is created that is not encompassed by the existing accident analyses that assume the function of the containment sump or CCS.

Therefore, the proposed change does not create the possibility of a new or different kind of accident from an accident previously evaluated.

3. Does the proposed change involve a significant reduction in a margin of safety?

Response: No.

The proposed change adds a new specification to the TS for the containment sump and adds an Action Note to CCS TS 3.6.2.3. An existing SR on the containment sump is moved to the new specification. The new specification retains the existing requirements on the containment sump and the actions to be taken when the containment sump is inoperable with the exception of adding new actions to be taken when the containment sump is inoperable due to containment accident generated and transported debris exceeding the analyzed limits. The new action provides time to evaluate and correct the condition instead of requiring an immediate plant shutdown.

The addition of an Action Note to TS 3.6.2.3 continues to require inoperable Containment Cooling groups to be restored to an operable status with the time frames established in the current specification while avoiding an unnecessary shutdown when one or more Containment Cooling groups are inoperable coincident with the containment sump being inoperable solely due to containment accident generated and transported debris exceeding the analyzed limits.

The proposed change does not affect the controlling values of parameters used to avoid exceeding regulatory or licensing limits. No Safety Limits are affected by the proposed change. The proposed change does not affect any assumptions in the accident analyses that demonstrate compliance with regulatory and licensing requirements.

Therefore, the proposed change does not involve a significant reduction in a margin of safety.

The NRC staff has reviewed the licensee's analysis and, based on this review, it appears that the three standards of 10 CFR 50.92(c) are satisfied. Therefore, the NRC staff proposes to determine that the amendment request involves no significant hazards consideration.

Attorney for licensee: Anna Vinson Jones, Senior Counsel, Entergy Services, Inc., 101 Constitution Avenue NW, Suite 200 East, Washington, DC 20001.

NRC Branch Chief: Robert J. Pascarelli.

Exelon Generation Company, LLC, Docket No. 50-220, Nine Mile Point Nuclear Station, Unit 1, Oswego County, New York

Date of amendment request: June 17, 2019. A publicly-available version is in ADAMS under Accession No. ML19169A105.

Description of amendment request: The amendment would make several editorial changes (e.g., pagination, redundancy, number sequencing, alignment, justification, etc.) to the Nine Mile Point Nuclear Station, Unit 1, Technical Specifications.

Basis for proposed no significant hazards consideration determination: As required by 10 CFR 50.91(a), the licensee has provided its analysis of the issue of no significant hazards consideration, which is presented below:

1. Does the proposed change involve a significant increase in the probability or consequences of an accident previously evaluated?

Response: No.

The proposed changes are administrative in nature. These changes do not affect possible initiating events for accidents previously evaluated nor do they alter the configuration or operation of the plant.

Therefore, the proposed changes do not involve a significant increase in the probability or consequences of an accident previously evaluated.

2. Does the proposed change create the possibility of a new or different kind of accident from any accident previously evaluated?

Response: No.

The proposed changes are administrative in nature. These changes do not alter the design or configuration of the plant. The proposed changes do not involve a physical alteration of the plant and no new or different kind of equipment will be installed. The proposed changes do not alter the types of lnservice Testing performed. The frequency of lnservice Testing is unchanged.

Therefore, the proposed changes do not create the possibility of a new or different kind of accident from any accident previously evaluated.

3. Does the proposed change involve a significant reduction in a margin of safety?

Response: No.

The proposed changes are administrative in nature. Since there are no changes to the operation or physical design of the plant, the Updated Final Safety Analysis Report design basis, accident assumptions, or Technical Specification bases are not affected.

Therefore, the proposed changes do not involve a significant reduction in a margin of safety.

The NRC staff has reviewed the licensee's analysis and, based on this review, it appears that the three standards of 10 CFR 50.92(c) are satisfied. Therefore, the NRC staff proposes to determine that the amendment request involves no significant hazards consideration.

Attorney for licensee: Jason Zorn, Associate General Counsel, Exelon Generation Company, LLC, Suite 400, 101 Constitution Ave NW, Washington, DC 20001.

NRC Branch Chief: James G. Danna.

Exelon Generation Company, LLC, Docket No. 50-410, Nine Mile Point Nuclear Station, Unit 2, Oswego County, New York

Date of amendment request: May 31, 2019. A publicly-available version is in ADAMS under Accession No. ML19151A537.

Description of amendment request: The amendment would increase the main steam isolation valve (MSIV) leakage rate and change the leakage rate surveillance requirement in Section 3.6.1.3, “Primary Containment Isolation Valves (PCIVs),” of the Nine Mile Point Nuclear Station, Unit 2, Technical Specifications.

Basis for proposed no significant hazards consideration determination: As required by 10 CFR 50.91(a), the licensee has provided its analysis of the issue of no significant hazards consideration, which is presented below:

1. Does the proposed change involve a significant increase in the probability or consequences of an accident previously evaluated?

Response: No.

The increase in the total MSIV leakage rate limit has been evaluated in a revision to the analysis of the LOCA [loss-of-coolant accident] radiological consequences. Based on the results of the analysis, it has been demonstrated that, with the requested change, the dose consequences of this limiting Design Basis Accident (DBA) are within the regulatory guidance provided by the NRC for use with the AST [alternative source term]. This guidance is presented in 10 CFR 50.67, Regulatory Guide 1.183, “Alternative Radiological Source Terms for Evaluating Design Basis Accidents at Nuclear Power Reactors,” Regulatory Issue Summary (RIS) 2006-04, and Standard Review Plan (SRP) Section 15.0.1.

The proposed changes to the MSIV leakage limit and the consolidation of the bypass drywell leakage do not involve physical change to any plant structure, system, or component. As a result, no new failure modes of the MSIVs have been introduced.

The proposed changes do not affect the normal design or operation of the facility before the accident; rather, it affects leakage limit assumptions that constitute inputs to the evaluation of the accident consequences. The radiological consequences of the analyzed LOCA have been evaluated using the plant licensing basis for this accident. The results conclude that the control room and offsite doses remain within applicable regulatory limits. The effect of the proposed changes on Environmental Qualification (EQ) and vital area access doses have also been evaluated. The proposed increase in MSIV leak rate does not require any new components to be evaluated for inclusion in the EQ program and all components currently in the program remain qualified for their environments. The dose rates and doses to personnel performing vital area tasks post-LOCA remain within acceptance criteria with the proposed change.

Therefore, the proposed changes do not involve a significant increase in the probability or consequences of an accident previously evaluated.

2. Does the proposed change create the possibility of a new or different kind of accident from any accident previously evaluated?

Response: No.

The change in the MSIV leakage rate limits and the consolidation of the drywell bypass leakage do not affect the design, functional performance or normal operation of the facility. Similarly, these changes do not affect the design or operation of any component in the facility such that new equipment failure modes are created. As such, the proposed changes will not create the possibility of a new or different kind of accident from any accident previously evaluated.

3. Does the proposed change involve a significant reduction in a margin of safety?

Response: No.

This proposed license amendment involves changes in the MSIV leakage rate limits and consolidation of the drywell bypass leakage. The revised leakage rate limits are used in the LOCA radiological analysis in conjunction with the revised inputs/methodologies described in Section 3.0 [of the licensee's amendment request] above. The delay in the drywell bypass leakage is not credited in the revised LOCA analysis. The analysis has been performed using conservative methodologies. Safety margins and analytical conservatisms have been evaluated and have been found acceptable. The analyzed LOCA event has been carefully selected and margin has been retained to ensure that the analysis adequately bounds the postulated event scenario. The dose consequences of this limiting event are within the acceptance criteria presented in 10 CFR 50.67, Regulatory Guide 1.183, and NRC SRP Section 15.0.1. The margin of safety is provided by meeting the applicable regulatory limits. The effect of the revision to the Technical Specification requirements has been analyzed and doses resulting from the pertinent design basis accident have been found to remain within the regulatory limits. The change continues to ensure that the doses at the exclusion area and low population zone boundaries, as well as the control room, are within the corresponding regulatory limits.

Therefore, the proposed change does not involve a significant reduction in a margin of safety.

The NRC staff has reviewed the licensee's analysis and, based on this review, it appears that the three standards of 10 CFR 50.92(c) are satisfied. Therefore, the NRC staff proposes to determine that the amendment request involves no significant hazards consideration.

Attorney for licensee: Jason Zorn, Associate General Counsel, Exelon Generation Company, LLC, 101 Constitution Ave, NW, Suite 400, Washington, DC 20001.

NRC Branch Chief: James G. Danna.

Exelon Generation Company, LLC, Docket No. 50-244, R. E. Ginna Nuclear Power Plant, Wayne County, New York

Date of amendment request: July 23, 2019. A publicly-available version is in ADAMS under Accession No. ML19204A349.

Description of amendment request: The amendment would revise the R. E. Ginna Nuclear Power Plant Technical Specification Surveillance Requirement 3.7.1.1 to increase the allowable as-found main steam safety valve lift setpoint tolerance from +1 percent/-3 percent to +1.4 percent/-4 percent.

Basis for proposed no significant hazards consideration determination: As required by 10 CFR 50.91(a), the licensee has provided its analysis of the issue of no significant hazards consideration, which is presented below with NRC staff edits in square brackets:

1. Do the proposed changes involve a significant increase in the probability or consequences of an accident previously evaluated?

Response: No.

The proposed change revises Technical Specification (TS) Surveillance Requirement (SR) 3.7.1.1 to increase the allowable as-found Main Steam Safety Valve (MSSV) lift setpoint tolerance from + 1%/-3% to + 1.4%/-4%. As summarized in Section 3.0 [of the licensee's amendment request], increasing the applicable MSSV tolerance has been evaluated for the Small Break Loss Of Coolant Accident (SBLOCA) analysis of record but this change does not affect the limiting SBLOCA results. However, this change does not alter the manner in which the valves are operated. Consistent with current TS requirements, the proposed change continues to require that the MSSVs be adjusted to within ±1% of their nominal lift setpoints following testing. Since the proposed change does not alter the manner in which the valves are operated, there is no significant impact on reactor operation.

The proposed change does not involve a physical change to the valves, nor does it change the safety function of the valves. The proposed TS revision involves no significant changes to the operation of any systems or components in normal or accident operating conditions and no changes to existing structures, systems, or components. The proposed amendments do not change any other behavior or operation of any MSSV, and therefore, has no significant impact on reactor operation. They also have no significant impact on response to any perturbation of reactor operation including transients and accidents previously analyzed in the Updated Final Safety Analysis Report (UFSAR).

Therefore, the proposed changes do not involve a significant increase in the probability or consequences of an accident previously evaluated.

2. Do the proposed changes create the possibility of a new or different kind of accident from any accident previously evaluated?

Response: No.

The proposed change revises TS SR 3.7.1.1 to increase the allowable as-found MSSV lift setpoint tolerance from + 1%/-3% to + 1.4%/-4%. The proposed change to the setpoint tolerance does not adversely affect the operation of any safety-related components or equipment. The proposed amendments do not involve physical changes to the applicable MSSVs, nor do they change the safety function of the MSSVs. The proposed amendments do not require any physical change or alteration of any existing plant equipment. No new or different equipment is being installed, and installed equipment is not being operated in a new or different manner. There is no alteration to the parameters within which the plant is normally operated. This change does not alter the manner in which equipment operation is initiated, nor will the functional demands on credited equipment be changed. No alterations in the procedures that ensure the plant remains within analyzed limits are being proposed, and no changes are being made to the procedures relied upon to respond to an off-normal event as described in the UFSAR. As such, no new failure modes are being introduced. The change does not alter assumptions made in the safety analysis and licensing basis.

Therefore, the proposed changes do not create the possibility of a new or different kind of accident from any accident previously evaluated.

3. Do the proposed changes involve a significant reduction in a margin of safety?

Response: No.

The margin of safety is established through the design of the plant structures, systems, and components, the parameters within which the plant is operated, and the establishment of the setpoints for the actuation of equipment relied upon to respond to an event. The proposed change does not modify the safety limits or setpoints at which protective actions are initiated, and does not change the requirements governing operation or availability of safety equipment assumed to operate to preserve the margin of safety.

Therefore, the proposed changes do not involve a significant reduction in a margin of safety.

The NRC staff has reviewed the licensee's analysis and, based on this review, it appears that the three standards of 10 CFR 50.92(c) are satisfied. Therefore, the NRC staff proposes to determine that the amendment request involves no significant hazards consideration.

Based on this review, it appears that the three standards of 10 CFR 50.92(c) are satisfied. Therefore, the NRC staff proposes to determine that the amendment request involves no significant hazards consideration.

Attorney for licensee: Tamra Domeyer, Associate General Counsel, Exelon Generation Company, LLC, 4300 Winfield Road, Warrenville, IL 60555.

NRC Branch Chief: James G. Danna.

Exelon Generation Company, LLC, Docket Nos. 50-289 and 50-320, Three Mile Island Nuclear Station, Units 1 and 2, Dauphin County, Pennsylvania

Date of amendment request: July 1, 2019. A publicly-available version is in ADAMS under Accession No. ML19182A182.

Description of amendment request: The amendment would revise the site emergency plan (SEP) and Emergency Action Level (EAL) scheme for the permanently defueled condition.

Basis for proposed no significant hazards consideration determination: As required by 10 CFR 50.91(a), the licensee has provided its analysis of the issue of no significant hazards consideration, which is presented below:

1. Does the proposed amendment involve a significant increase in the probability or consequences of an accident previously evaluated?

Response: No.

The proposed changes to the site emergency plan (SEP) and EAL scheme do not impact the function of plant structures, systems, or components (SSCs). The proposed changes do not affect accident initiators or precursors, nor does it alter design assumptions. The proposed changes do not prevent the ability of the on-shift staff and emergency response organization (ERO) to perform their intended functions to mitigate the consequences of any accident or event that will be credible in the permanently defueled condition.

The probability of occurrence of previously evaluated accidents is not increased, since most previously analyzed accidents can no longer occur and the probability of the few remaining credible accidents are unaffected by the proposed amendment.

Therefore, the proposed change does not involve a significant increase in the probability or consequences of an accident previously evaluated.

2. Does the proposed amendment create the possibility of a new or different kind of accident from any accident previously evaluated?

Response: No.

The proposed changes reduce the scope of the SEP and EAL scheme commensurate with the hazards associated with a permanently shutdown and defueled facility. The proposed changes do not involve installation of new equipment or modification of existing equipment, so that no new equipment failure modes are introduced. In addition, the proposed changes do not result in a change to the way that the equipment or facility is operated so that no new or different kinds of accident initiators are created.

Therefore, the proposed change does not create the possibility of a new or different kind of accident from any previously evaluated.

3. Does the proposed amendment involve a significant reduction in a margin of safety?

Response: No.

Margin of safety is associated with confidence in the ability of the fission product barriers (i.e., fuel cladding, reactor coolant system pressure boundary, and containment structure) to limit the level of radiation dose to the public. The proposed changes are associated with the SEP and EAL scheme and do not impact operation of the plant or its response to transients or accidents. The change does not affect the Technical Specifications. The proposed changes do not involve a change in the method of plant operation, and no accident analyses will be affected by the proposed changes. Safety analysis acceptance criteria are not affected by the proposed changes. The Post Defueled Emergency Plan (PDEP) will continue to provide the necessary response staff with the appropriate guidance to protect the health and safety of the public.

Therefore, the proposed change does not involve a significant reduction in a margin of safety.

The NRC staff has reviewed the licensee's analysis and, based on this review, it appears that the three standards of 10 CFR 50.92(c) are satisfied. Therefore, the NRC staff proposes to determine that the amendment request involves no significant hazards consideration.

Attorney for licensee: Tamra Domeyer, Associate General Counsel, Exelon Generation Company, LLC, 4300 Winfield Road, Warrenville, IL 60555.

NRC Branch Chief: James G. Danna.

Nebraska Public Power District, Docket No. 50-298, Cooper Nuclear Station, Nemaha County, Nebraska

Date of amendment request: May 23, 2019. A publicly-available version is in ADAMS under Accession No. ML19171A268.

Description of amendment request: The proposed amendment would delete the Technical Specification (TS) requirements related to hydrogen/oxygen monitors. The proposed changes support implementation of the revision to 10 CFR 50.44, “Combustible gas control for nuclear power reactors,” which became effective on October 16, 2003. The proposed changes are consistent with Revision 1 of NRC-approved Industry/Technical Specifications Task Force (TSTF) Standard Technical Specification Change Traveler, TSTF-447, “Elimination of Hydrogen Recombiners and Change to Hydrogen and Oxygen Monitors.” The notice of availability of this TS improvement was announced in the Federal Register on September 25, 2003 (68 FR 55416), as part of the consolidated line item improvement process. Post-accident hydrogen recombiners are not installed at Cooper Nuclear Station; therefore, that portion of the TSTF is not requested in this proposed amendment.

Basis for proposed no significant hazards consideration determination: As required by 10 CFR 50.91(a), the licensee affirmed the applicability of the model no significant hazards consideration determination, which is presented below:

Criterion 1: The Proposed Change Does Not Involve a Significant Increase in the Probability or Consequences of an Accident Previously Evaluated.

The revised 10 CFR 50.44 no longer defines a design-basis loss-of-coolant accident (LOCA) hydrogen release, and eliminates requirements for hydrogen control systems to mitigate such a release. The installation of hydrogen recombiners and/or vent and purge systems required by 10 CFR 50.44(b)(3) was intended to address the limited quantity and rate of hydrogen generation that was postulated from a design-basis LOCA. The Commission has found that this hydrogen release is not risk-significant because the design-basis LOCA hydrogen release does not contribute to the conditional probability of a large release up to approximately 24 hours after the onset of core damage. In addition, these systems were ineffective at mitigating hydrogen releases from risk-significant accident sequences that could threaten containment integrity.

With the elimination of the design-basis LOCA hydrogen release, hydrogen and oxygen monitors are no longer required to mitigate design-basis accidents and, therefore, the hydrogen monitors do not meet the definition of a safety-related component as defined in 10 CFR 50.2. RG [Regulatory Guide] 1.97 Category 1, is intended for key variables that most directly indicate the accomplishment of a safety function for design-basis accident events. The hydrogen and oxygen monitors no longer meet the definition of Category 1 in RG 1.97. As part of the rulemaking to revise 10 CFR 50.44 the Commission found that Category 3, as defined in RG 1.97, is an appropriate categorization for the hydrogen monitors because the monitors are required to diagnose the course of beyond design-basis accidents. Also, as part of the rulemaking to revise 10 CFR 50.44, the Commission found that Category 2, as defined in RG 1.97, is an appropriate categorization for the oxygen monitors, because the monitors are required to verify the status of the inert containment.

The regulatory requirements for the hydrogen and oxygen monitors can be relaxed without degrading the plant emergency response. The emergency response, in this sense, refers to the methodologies used in ascertaining the condition of the reactor core, mitigating the consequences of an accident, assessing and projecting offsite releases of radioactivity, and establishing protective action recommendations to be communicated to offsite authorities. Classification of the hydrogen monitors as Category 3, classification of the oxygen monitors as Category 2 and removal of the hydrogen and oxygen monitors from TS will not prevent an accident management strategy through the use of the SAMGs [Severe Accident Management Guidelines], the emergency plan (EP), the emergency operating procedures (EOP), and site survey monitoring that support modification of emergency plan protective action recommendations (PARs).

Therefore, the elimination of the hydrogen recombiner requirements and relaxation of the hydrogen and oxygen monitor requirements, including removal of these requirements for TS, does not involve a significant increase in the probability or consequences of an accident previously evaluated.

Criterion 2: The Proposed Change Does Not Create the Possibility of a New or Different Kind of Accident from Any Previously Evaluated.

The elimination of the hydrogen recombiner requirements and relaxation of the hydrogen and oxygen monitor requirements, including removal of these requirements from TS, will not result in any failure mode not previously analyzed. The hydrogen recombiner and hydrogen and oxygen monitor equipment was intended to mitigate a design-basis hydrogen release. The hydrogen recombiner and hydrogen and oxygen monitor equipment are not considered accident precursors, nor does their existence or elimination have any adverse impact on the pre-accident state of the reactor core or post accident confinement of radionuclides within the containment building.

Therefore, this change does not create the possibility of a new or different kind of accident from any previously evaluated.

Criterion 3: The Proposed Change Does Not Involve a Significant Reduction in the Margin of Safety.

The elimination of the hydrogen recombiner requirements and relaxation of the hydrogen and oxygen monitor requirements, including removal of these requirements from TS, in light of existing plant equipment, instrumentation, procedures, and programs that provide effective mitigation of and recovery from reactor accidents, results in a neutral impact to the margin of safety.

The installation of hydrogen recombiners and/or vent and purge systems required by 10 CFR 50.44(b)(3) was intended to address the limited quantity and rate of hydrogen generation that was postulated from a design-basis LOCA. The Commission has found that this hydrogen release is not risk-significant because the design-basis LOCA hydrogen release does not contribute to the conditional probability of a large release up to approximately 24 hours after the onset of core damage.

Category 3 hydrogen monitors are adequate to provide rapid assessment of current reactor core conditions and the direction of degradation while effectively responding to the event in order to mitigate the consequences of the accident. The intent of the requirements established as a result of the Three Mile Island MI [Three Mile Island Nuclear Station], Unit 2 accident can be adequately met without reliance on safety-related hydrogen monitors.

Category 2 oxygen monitors are adequate to verify the status of an inerted containment.

Therefore, this change does not involve a significant reduction in the margin of safety. The intent of the requirements established as a result of the TMI, Unit 2 accident can be adequately met without reliance on safety-related oxygen monitors. Removal of hydrogen and oxygen monitoring from TS will not result in a significant reduction in their functionality, reliability, and availability.

The NRC staff has reviewed the above analysis and, based on this review, it appears that the three standards of 10 CFR 50.92(c) are satisfied. Therefore, the NRC staff proposes to determine that the amendment request involves no significant hazards consideration.

Attorney for licensee: John C. McClure, Nebraska Public Power District, Post Office Box 499, Columbus, NE 68602-0499.

NRC Branch Chief: Robert J. Pascarelli.

Nebraska Public Power District, Docket No. 50-298, Cooper Nuclear Station, Nemaha County, Nebraska

Date of amendment request: May 23, 2019. A publicly-available version is in ADAMS under Accession No. ML19171A266.

Description of amendment request: The proposed amendment would revise the Cooper Nuclear Station Technical Specifications (TSs) by adopting Technical Specifications Task Force (TSTF) Traveler 564 (TSTF-564), “Safety Limit MCPR [Minimum Critical Power Ratio].” The proposed amendment would revise the TS safety limit on MCPR to reduce the need for cycle-specific changes to the value, while still meeting the regulatory requirement for a safety limit.

Basis for proposed no significant hazards consideration determination: As required by 10 CFR 50.91(a), the licensee has provided its analysis of the issue of no significant hazards consideration, which is presented below:

1. Does the proposed change involve a significant increase in the probability or consequences of an accident previously evaluated?

Response: No.

The proposed amendment revises the TS SLMCPR [safety limit minimum critical power ratio] and the list of core operating limits to be included in the COLR [core operating limits report]. The SLMCPR is not an initiator of any accident previously evaluated. The revised safety limit values continue to ensure for all accidents previously evaluated that the fuel cladding will be protected from failure due to transition boiling. The proposed change does not affect plant operation or any procedural or administrative controls on plant operation that affect the functions of preventing or mitigating any accidents previously evaluated.

Therefore, the proposed change does not involve a significant increase in the probability or consequences of an accident previously evaluated.

2. Does the proposed change create the possibility of a new or different kind of accident from any accident previously evaluated?

Response: No.

The proposed amendment revises the TS SLMCPR and the list of core operating limits to be included in the COLR. The proposed change will not affect the design function or operation of any structures, systems or components. No new equipment will be installed. As a result, the proposed change will not create any credible new failure mechanisms, malfunctions, or accident initiators not considered in the design and licensing bases.

Therefore, the proposed change does not create the possibility of a new or different kind of accident from any accident previously evaluated.

3. Does the proposed change involve a significant reduction in a margin of safety?

Response: No.

The proposed amendment revises the TS SLMCPR and the list of core operating limits to be included in the COLR. This will result in a change to a safety limit, but will not result in a significant reduction in the margin of safety provided by the safety limit. As discussed in the application, changing the SLMCPR methodology to one based on a 95 percent probability at a 95 percent confidence level that no fuel rods experience transition boiling during an anticipated transient, instead of the current limit based on ensuring that 99.9 percent of the fuel rods are not susceptible to boiling transition, does not have significant effect on the plant response to any analyzed accident. The SLMCPR and the TS Limiting Condition for Operation on MCPR continue to provide the same level of assurance as the current limits and do not reduce a margin of safety.

Therefore, the proposed change does not involve a significant reduction in a margin of safety.

The NRC staff has reviewed the licensee's analysis and, based on this review, it appears that the three standards of 10 CFR 50.92(c) are satisfied. Therefore, the NRC staff proposes to determine that the amendment request involves no significant hazards consideration.

Attorney for licensee: John C. McClure, Nebraska Public Power District, Post Office Box 499, Columbus, NE 68602-0499.

NRC Branch Chief: Robert J. Pascarelli.

NextEra Energy, Point Beach, LLC, Docket Nos. 50-266 and 50-301, Point Beach Nuclear Plant, Unit Nos. 1 and 2 (Point Beach), Town of Two Creeks, Manitowoc County, Wisconsin

NextEra Energy Seabrook, LLC, Docket No. 50-443, Seabrook Station, Unit No. 1 (Seabrook), Rockingham County, New Hampshire

Florida Power & Light Company, Docket Nos. 50-250 and 50-251, Turkey Point Nuclear Generating Unit Nos. 3 and 4 (Turkey Point), Miami-Dade County, Florida

Date of amendment request: March 18, 2019. A publicly-available version is in ADAMS under Accession No. ML19079A240.

Description of amendment request: The amendments would revise the Technical Specifications (TS) to adopt TSTF-563, “Revise Instrument Testing Definitions to Incorporate the Surveillance Frequency Control Program.” TSTF-563 revises the TS definitions of Channel Calibration, Channel Operational Test (COT), and Trip Actuating Device Operational Test (TADOT) in the Point Beach TSs; and Channel Calibration, Analog COT, Digital COT, and TADOT in the Seabrook and Turkey Point TSs. The Seabrook and Turkey Point definitions of Analog COT, Digital COT, and TADOT are revised to explicitly permit performance by means of any series of sequential, overlapping, or total channel steps. The Channel Calibration, COT, Analog COT, Digital COT, and TADOT definitions are revised to allow the required frequency for testing the components or devices in each step to be determined in accordance with the TS Surveillance Frequency Control Program.

Basis for proposed no significant hazards consideration determination: As required by 10 CFR 50.91(a), the licensee has provided its analysis of the issue of no significant hazards consideration, which is presented below:

1. Does the proposed change involve a significant increase in the probability or consequences of an accident previously evaluated?

Response: No.

The proposed change revises the TS definitions of Channel Calibration, COT, Analog COT, Digital COT, and TADOT in the Point Beach, Seabrook, and Turkey Point TS to allow the frequency for testing the components or devices in each step to be determined in accordance with the TS Surveillance Frequency Control Program. The proposed change also explicitly permits the Seabrook and Turkey Point Analog COT, Digital COT, and TADOT to be performed by any series of sequential, overlapping, or total channel steps. All components in the channel continue to be tested. The frequency at which a channel test is performed is not an initiator of any accident previously evaluated, so the probability of an accident is not affected by the proposed change. The channels surveilled in accordance with the affected definitions continue to be required to be operable and the acceptance criteria of the surveillances are unchanged. As a result, any mitigating functions assumed in the accident analysis will continue to be performed.

Therefore, the proposed change does not involve a significant increase in the probability or consequences of an accident previously evaluated.

2. Does the proposed change create the possibility of a new or different kind of accident from any accident previously evaluated?

Response: No.

The proposed change revises the TS definitions of Channel Calibration, COT, Analog COT, Digital COT, and TADOT in the Point Beach, Seabrook, and Turkey Point TS to allow the frequency for testing the components or devices in each step to be determined in accordance with the TS Surveillance Frequency Control Program. The proposed change also explicitly permits the Seabrook and Turkey Point Analog COT, Digital COT, and TADOT to be performed by any series of sequential, overlapping, or total channel steps. The design function or operation of the components involved are not affected and there is no physical alteration of the plant (i.e., no new or different type of equipment will be installed). No credible new failure mechanisms, malfunctions, or accident initiators not considered in the design and licensing bases are introduced. The changes do not alter assumptions made in the safety analysis. The proposed changes are consistent with the safety· analysis assumptions.

Therefore, the proposed change does not create the possibility of a new or different kind of accident from any previously evaluated.

3. Does the proposed amendment involve a significant reduction in a margin of safety?

Response: No.

The proposed change revises the TS definitions of Channel Calibration, COT, Analog COT, Digital COT, and TADOT in the Point Beach, Seabrook, and Turkey Point TS to allow the frequency for testing the components or devices in each step to be determined in accordance with the TS Surveillance Frequency Control Program. The proposed change also explicitly permits the Seabrook and Turkey Point Analog COT, Digital COT, and TADOT to be performed by any series of sequential, overlapping, or total channel steps. The Surveillance Frequency Control Program assures sufficient safety margins are maintained and that design, operation, surveillance methods, and acceptance criteria specified in applicable codes and standards (or alternatives approved for use by the NRC) will continue to be met as described in the plants licensing basis. The proposed change does not adversely affect existing plant safety margins, or the reliability of the equipment assumed to operate in the safety analysis. As such, there are no changes being made to safety analysis assumptions, safety limits, or limiting safety system settings that would adversely affect plant safety as a result of the proposed change. Margins of safety are unaffected by method of determining surveillance test intervals under an NRC-approved licensee-controlled program.

Therefore, the proposed change does not involve a significant reduction in a margin of safety.

The NRC staff has reviewed the licensee's analysis and, based on this review, it appears that the three standards of 10 CFR 50.92(c) are satisfied. Therefore, the NRC staff proposes to determine that the amendment request involves no significant hazards consideration.

Attorney for licensee: Debbie Hendell, Managing Attorney—Nuclear, Florida Power & Light Company, P.O. Box 14000, Juno Beach, FL 33408-0420.

NRC Branch Chief: James G. Danna.

PSEG Nuclear LLC, Docket No. 50-354, Hope Creek Generating Station, Salem County, New Jersey

PSEG Nuclear LLC and Exelon Generation Company, LLC, Docket Nos. 50-272 and 50-311, Salem Nuclear Generating Station, Unit Nos. 1 and 2, Salem County, New Jersey

Date of amendment request: July 29, 2019. A publicly-available version is in ADAMS under Accession No. ML19210C880.

Description of amendment request: The amendments would revise the operating licenses to delete certain license conditions that impose specific requirements on the decommissioning trust agreement on the basis that upon approval of the amendments, the provisions of 10 CFR 50.75(h) that specify the regulatory requirements for decommissioning trust funds would apply to PSEG Nuclear LLC. The amendments would also remove legacy financial requirements associated with the license transfer from PSE&G to PSEG Nuclear LLC relative to maintaining available funding for an extended shutdown.

Basis for proposed no significant hazards consideration determination: As required by 10 CFR 50.91(a), the licensee has provided its analysis of the issue of no significant hazards consideration, which is presented below:

1. Do the proposed amendments involve a significant increase in the probability or consequences of an accident previously evaluated?

Response: No.

The requested changes delete License Conditions which pertain to the decommissioning trust funds for Salem Generating Station (SGS) and Hope Creek Generating Station (HCGS) and to funding an extended plant shutdown.

These requests involve changes that are administrative in nature. No actual plant equipment or accident analyses will be affected by the proposed changes.

Therefore, the proposed amendments do not involve a significant increase in the probability or consequences of an accident previously evaluated.

2. Do the proposed amendments create the possibility of a new or different kind of accident from any accident previously evaluated?

Response: No.

This request involves administrative changes to the Renewed Facility Operating Licenses (FOLs) of SGS Units 1 and 2 and HCGS relating to the terms and conditions of the decommissioning trust agreements and to funding an extended plant shutdown. The proposed changes will be consistent with the NRC's regulations at 10 CFR 50.75(h).

No actual plant equipment or accident analyses will be affected by the proposed changes and no failure modes not bounded by previously evaluated accidents will be created.

Therefore, the proposed amendments do not create the possibility of a new or different kind of accident from any previously evaluated.

3. Do the proposed amendments involve a significant reduction in a margin of safety?

Response: No.

This request involves administrative changes to the SGS Units 1 and 2 and HCGS FOLs that will be consistent with the NRC's regulations set forth in 10 CFR 50.75(h). The request also involves removal of extended shutdown funding requirements for both stations that are historical in nature and are no longer warranted.

The changes being proposed are administrative in nature. Margins of safety are associated with confidence in the ability of the fission product barriers to limit the level of potential dose to the public. No actual plant equipment or accident analyses will be affected by the proposed change. Additionally, the proposed changes will not relax any criteria used to establish safety limits, will not relax any safety systems settings, nor will they relax the bases for any limiting conditions of operation.

Therefore, the proposed amendments do not involve a significant reduction in the margin of safety.

The NRC staff has reviewed the licensee's analysis and, based on this review, it appears that the three standards of 10 CFR 50.92(c) are satisfied. Therefore, the NRC staff proposes to determine that the amendment request involves no significant hazards consideration.

Attorney for licensee: Steven Fleischer, PSEG Services Corporation, 80 Park Plaza, T-5, Newark, NJ 07102.

NRC Branch Chief: James G. Danna.

Southern Nuclear Operating Company, Inc.; Georgia Power Company; Oglethorpe Power Corporation; Municipal Electric Authority of Georgia; and City of Dalton, Georgia, Docket Nos. 50-321 and 50-366, Edwin I. Hatch Nuclear Plant, Unit Nos. 1 and 2, Appling County, Georgia

Date of amendment request: July 23, 2019. A publicly-available version is in ADAMS under Accession No. ML19204A240.

Description of amendment request: The amendments would revise the Edwin I. Hatch Nuclear Plant (Hatch), Units 1 and 2, Technical Specifications (TSs). The amendments would adopt TSTF-566, “Revise Actions for Inoperable [Residual Heat Removal] RHR Shutdown Cooling Subsystems,” which is an approved change to the Improved Standard Technical Specifications, into the Hatch, Units 1 2, TSs. The amendments would revise TS 3.4.7 and TS 3.4.8 Conditions, Required Actions, and Completion Times when an RHR shutdown cooling subsystem is inoperable.

Basis for proposed no significant hazards consideration determination: As required by 10 CFR 50.91(a), the licensee has provided its analysis of the issue of no significant hazards consideration, which is presented below:

1. Does the proposed amendment involve a significant increase in the probability or consequences of an accident previously evaluated?

Response: No.

The proposed change revises the actions to be taken when an RHR shutdown cooling subsystem is inoperable. The RHR System in the shutdown cooling mode performs the important safety function of removing decay heat from the reactor coolant system during shutdown. The RHR System in the shutdown cooling mode is not an initiator of any accident previously evaluated or assumed to mitigate any accident previously evaluated. The design and function of the RHR System are not affected by the proposed change.

Therefore, the proposed change does not involve a significant increase in the probability or consequences of an accident previously evaluated.

2. Does the proposed amendment create the possibility of a new or different kind of accident from any accident previously evaluated?

Response: No.

The proposed change revises the actions to be taken when an RHR shutdown cooling subsystem is inoperable. The proposed change does not affect the design function or operation of the RHR shutdown cooling subsystems. No new equipment is being installed as a result of the proposed change. The proposed change only affects the actions taken when an RHR shutdown cooling subsystem is inoperable, so no new failure mechanisms are created.

Therefore, the proposed change does not create the possibility of a new or different kind of accident from any accident previously evaluated.

3. Does the proposed amendment involve a significant reduction in a margin of safety?

Response: No.

The proposed change revises the actions to be taken when an RHR shutdown cooling subsystem is inoperable. The proposed change does not change any specific values or controlling parameters that define margin in the design or licensing basis. No safety limits are affected by the proposed change. The RHR System in the shutdown cooling mode removes decay heat from the reactor coolant system during shutdown. The proposed change does not affect any design or safety limits associated with the RHR System.

Therefore, the proposed change does not involve a significant reduction in a margin of safety.

The NRC staff has reviewed the licensee's analysis and, based on this review, it appears that the three standards of 10 CFR 50.92(c) are satisfied. Therefore, the NRC staff proposes to determine that the amendment request involves no significant hazards consideration.

Attorney for licensee: Millicent Ronnlund, Vice President and General Counsel, Southern Nuclear Operating Co., Inc., P. O. Box 1295, Birmingham, AL 35201-1295.

NRC Branch Chief: Michael T. Markley.

IV. Notice of Issuance of Amendments to Facility Operating Licenses and Combined Licenses

During the period since publication of the last biweekly notice, the Commission has issued the following amendments. The Commission has determined for each of these amendments that the application complies with the standards and requirements of the Atomic Energy Act of 1954, as amended (the Act), and the Commission's rules and regulations. The Commission has made appropriate findings as required by the Act and the Commission's rules and regulations in 10 CFR chapter I, which are set forth in the license amendment.

A notice of consideration of issuance of amendment to facility operating license or combined license, as applicable, proposed no significant hazards consideration determination, and opportunity for a hearing in connection with these actions, was published in the Federal Register as indicated.

Unless otherwise indicated, the Commission has determined that these amendments satisfy the criteria for categorical exclusion in accordance with 10 CFR 51.22. Therefore, pursuant to 10 CFR 51.22(b), no environmental impact statement or environmental assessment need be prepared for these amendments. If the Commission has prepared an environmental assessment under the special circumstances provision in 10 CFR 51.22(b) and has made a determination based on that assessment, it is so indicated.

For further details with respect to the action see (1) the applications for amendment, (2) the amendment, and (3) the Commission's related letter, Safety Evaluation and/or Environmental Assessment as indicated. All of these items can be accessed as described in the “Obtaining Information and Submitting Comments” section of this document.

Duke Energy Progress, LLC, Docket No. 50-261, H. B. Robinson Steam Electric Plant, Unit No. 2 (Robinson), Darlington County, South Carolina.

Date of amendment request: April 16, 2018, as supplemented by letters dated September 25, 2018; November 13, 2018; and July 16, 2019.

Brief description of amendment: The amendment revised the Robinson Technical Specifications (TSs) by relocating specific surveillance frequencies to a licensee-controlled program with the implementation of Nuclear Energy Institute (NEI) 04-10, “Risk-Informed Technical Specification Initiative 5b, Risk-Informed Method for Control of Surveillance Frequencies.” Additionally, the change added a new program, the Surveillance Frequency Control Program, to TS Section 5.0, “Administrative Controls.”

Date of issuance: August 15, 2019.

Effective date: As of the date of issuance and shall be implemented within 120 days of issuance.

Amendment No.: 265. A publicly-available version is in ADAMS under Accession No. ML19158A307; documents related to the amendment are listed in the Safety Evaluation enclosed with the amendment.

Renewed Facility Operating License No. DPR-23: The amendment revised the Renewed Facility Operating License and Technical Specifications.

Date of initial notice in Federal Register: October 23, 2018 (83 FR 53512). The supplemental letters dated November 13, 2018, and July 16, 2019, provided additional information that clarified the application, did not expand the scope of the application as originally noticed, and did not change the NRC staff's original proposed no significant hazards consideration determination as published in the Federal Register.

The Commission's related evaluation of the amendment is contained in a Safety Evaluation dated August 15, 2019.

No significant hazards consideration comments received: No.

Entergy Nuclear Operations, Inc., Docket No. 50-255, Palisades Nuclear Plant, Van Buren County, Michigan

Date of amendment requests: November 1, 2018, and March 8, 2019, as supplemented by letter dated May 28, 2019.

Brief description of amendment: The amendment canceled 6 modifications and clarified 10 modifications as described in Table S-2, “Plant Modifications Committed,” which is referenced in the fire protection program transition license condition 2.C.(3)(c)2. The amendment also extended the full compliance date for the fire protection program transition license condition.

Date of issuance: August 20, 2019.

Effective date: As of the date of issuance and shall be implemented within 60 days of issuance.

Amendment No.: 269. A publicly-available version is in ADAMS under Accession No. ML19198A080; documents related to this amendment are listed in the Safety Evaluation enclosed with the amendment.

Renewed Facility Operating License No. DPR-20: The amendment revised the Renewed Facility Operating License.

Date of initial notice in Federal Register: February 5, 2019 (84 FR 1804), and May 7, 2019 (84 FR 19969). The supplemental letter dated May 28, 2019, provided additional information that clarified the application, did not expand the scope of the application as originally noticed, and did not change the staff's original proposed no significant hazards consideration determinations as published in the Federal Register.

The Commission's related evaluation of the amendment is contained in a Safety Evaluation dated August 20, 2019.

No significant hazards consideration comments received: No.

Exelon FitzPatrick, LLC and Exelon Generation Company, LLC, Docket No. 50-333, James A. FitzPatrick Nuclear Power Plant, Oswego County, New York

Date of amendment request: March 7, 2019.

Brief description of amendment: The amendment revised the James A. FitzPatrick Nuclear Power Plant Technical Specification requirements regarding ventilation system testing in accordance with Technical Specifications Task Force (TSTF) Traveler, TSTF-522, Revision 0, “Revise Ventilation System Surveillance Requirements to Operate for 10 hours per Month.” Specifically, Surveillance Requirement 3.6.4.3.1 of Technical Specification 3.6.4.3, “Standby Gas Treatment (SGT) System,” was revised to require operating the ventilation system for at least 15 continuous minutes with the heaters operating at a frequency controlled in accordance with the Surveillance Frequency Control Program.

Date of issuance: August 19, 2019.

Effective date: As of the date of issuance and shall be implemented within 60 days.

Amendment No.: 326. A publicly-available version is in ADAMS under Accession No. ML19189A084; documents related to this amendment are listed in the Safety Evaluation enclosed with the amendment.

Renewed Facility Operating License No. DPR-59: The amendment revised the Renewed Facility Operating License and Technical Specifications.

Date of initial notice in Federal Register: April 23, 2019 (84 FR 16893).

The Commission's related evaluation of the amendment is contained in a Safety Evaluation dated August 19, 2019.

No significant hazards consideration comments received: No.

Exelon Generation Company, LLC, Docket Nos. 50-317 and 50-318, Calvert Cliffs Nuclear Power Plant, Units 1 and 2, Calvert County, Maryland

Date of amendment request: August 30, 2018, as supplemented by letter dated January 11, 2019.

Brief description of amendments: The amendments approved the relocation and consolidation of the Emergency Operations Facility (EOF) and Joint Information Center (JIC) for the Calvert Cliffs Nuclear Power Plant with the existing Exelon Generation Company, LLC joint EOF and JIC located at 175 North Caln Road, Coatesville, Pennsylvania. This facility in Coatesville, Pennsylvania, also serves as the EOF/JIC for Limerick Generating Station, Units 1 and 2, Peach Bottom Atomic Power Station, Units 2 and 3, and Three Mile Island Nuclear Station, Unit 1.

Date of issuance: August 26, 2019.

Effective date: As of the date of issuance and shall be implemented no later than April 30, 2020.

Amendment Nos.: 330 (Unit 1) and 308 (Unit 2). A publicly-available version is in ADAMS under Accession No. ML19165A247; documents related to these amendments are listed in the Safety Evaluation enclosed with the amendments.

Renewed Facility Operating License Nos. DPR-53 and DPR-69: The amendments revised the Renewed Facility Operating Licenses.

Date of initial notice in Federal Register: December 18, 2018 (83 FR 64896). The supplemental letter dated January 11, 2019, provided additional information that clarified the application, did not expand the scope of the application as originally noticed, and did not change the NRC staff's original proposed no significant hazards consideration determination as published in the Federal Register.

The Commission's related evaluation of the amendments is contained in a Safety Evaluation dated August 26, 2019.

No significant hazards consideration comments received: No.

FirstEnergy Nuclear Operating Company, Docket No. 50-440, Perry Nuclear Power Plant, Unit No. 1, Lake County, Ohio

Date of amendment request: November 28, 2018.

Brief description of amendment: The amendment revised certain aspects of the Perry Nuclear Power Plant Emergency Plan emergency response organization staffing.

Date of issuance: August 14, 2019.

Effective date: As of the date of issuance and shall be implemented within 90 days of issuance.

Amendment No.: 186. A publicly-available version is in ADAMS under Accession No. ML19163A023; documents related to this amendment are listed in the Safety Evaluation enclosed with the amendment.

Facility Operating License No. NPF-58: The amendment revised the Facility Operating License.

Date of initial notice in Federal Register: January 2, 2019 (84 FR 23).

The Commission's related evaluation of the amendment is contained in a Safety Evaluation dated August 14, 2019.

No significant hazards consideration comments received: No.

Florida Power & Light Company, Docket Nos. 50-250 and 50-251, Turkey Point Nuclear Generating Unit Nos. 3 and 4, Miami-Dade County, Florida

Date of amendment request: May 3, 2018, as supplemented by letter August 14, 2019.

Brief description of amendments: The amendments revised the Technical Specifications by changing the Safety Limit 2.1.1.b peak fuel centerline temperature to reflect the fuel centerline melt temperature specified in Topical Report WCAP-17642-P-A, Revision 1, “Westinghouse Performance Analysis and Design Model (PAD5).” A non-proprietary version of WCAP-17642-P-A, Revision 1, can be found in ADAMS under Accession No. ML17338A396.

Date of issuance: August 15, 2019.

Effective date: As of the date of issuance and shall be implemented for the Unit 3 Cycle 32 and Unit 4 Cycle 32 reload campaigns currently scheduled for the fall of 2021 and the fall of 2020, respectively.

Amendment Nos.: 288 (Unit 3) and 282 (Unit 4). A publicly-available version is in ADAMS under Accession No. ML19031C891; documents related to these amendments are listed in the Safety Evaluation enclosed with the amendments.

Renewed Facility Operating License Nos. DPR-31 and DPR-41: The amendments revised the Renewed Facility Operating Licenses and Technical Specifications.:

Date of initial notice in Federal Register July 3, 2018 (83 FR 31185) (corrected July 10, 2018 (83 FR 31981)). The supplemental letter dated August 14, 2019, provided additional information that clarified the application, did not expand the scope of the application as originally noticed, and did not change the NRC staff's original proposed no significant hazards consideration determination as published in the Federal Register.

The Commission's related evaluation of the amendments is contained in a Safety Evaluation dated August 15, 2019.

No significant hazards consideration comments received: No.

Pacific Gas and Electric Company, Docket Nos. 50-275 and 50-323, Diablo Canyon Nuclear Power Plant (Diablo Canyon), Units 1 and 2, San Luis Obispo County, California

Date of amendment request: September 12, 2018, as supplemented by letters dated May 2, 2019, and July 3, 2019.

Brief description of amendments: The amendments revised the Emergency Plan for Diablo Canyon, Units 1 and 2, to revise the Emergency Response Organization staffing composition and extend staff augmentation times for the Emergency Response Organization functions.

Date of issuance: August 21, 2019.

Effective date: As of the date of issuance and shall be implemented within 180 days from the date of issuance.

Amendment Nos.: Unit 1 (233) and Unit 2 (235). A publicly-available version is in ADAMS under Accession No. ML19196A309; documents related to these amendments are listed in the Safety Evaluation enclosed with the amendments.

Facility Operating License Nos. DPR-80 and DPR-82: The amendments revised the Emergency Plan.

Date of initial notice in Federal Register: December 4, 2018 (83 FR 62621). The supplemental letters dated May 2, 2019, and July 3, 2019, provided additional information that clarified the application, did not expand the scope of the application as originally noticed, and did not change the NRC staff's original proposed no significant hazards consideration determination as published in the Federal Register.

The Commission's related evaluation of the amendments is contained in a Safety Evaluation dated August 21, 2019.

No significant hazards consideration comments received: No.

Southern Nuclear Operating Company, Docket Nos. 50-348 and 50-364, Joseph M. Farley Nuclear Plant, Units 1 and 2, Houston County, Alabama

Date of amendment request: July 27, 2018, as supplemented by letters dated May 3, 2019; May 17, 2019; and June 27, 2019.

Brief description of amendments: The amendments modified the Technical Specifications to permit the use of Risk-Informed Completion Times (RICTs) in accordance with Topical Report Nuclear Energy Institute (NEI) 06-09, “Risk-Informed Technical Specifications Initiative 4b, Risk-Managed Technical Specifications (RMTS) Guidelines,” Revision 0-A.

Date of issuance: August 23, 2019.

Effective date: As of the date of issuance and shall be implemented within 180 days of issuance.

Amendment Nos.: 225 (Unit 1) and 222 (Unit 2). A publicly-available version is in ADAMS under Accession No. ML19175A243; documents related to these amendments are listed in the Safety Evaluation enclosed with the amendments.

Renewed Facility Operating License Nos. NPF-2 and NPF-8: The amendments revised the Renewed Facility Operating Licenses and Technical Specifications.

Date of initial notice in Federal Register: September 25, 2018 (83 FR 48466). By supplemental letters dated May 3, 2019, and May 17, 2019, the licensee provided additional information that expanded the scope of the amendment request as originally noticed in the Federal Register. Accordingly, the NRC staff published a second proposed no significant hazards consideration determination in the Federal Register on June 4, 2019 (84 FR 25840), which superseded the original determination in its entirely. The supplemental letter dated June 27, 2019, provided additional information that clarified the application, did not expand the scope of the application as noticed, and did not change the NRC staff's second proposed no significant hazards consideration determination as published in the Federal Register.

The Commission's related evaluation of the amendments is contained in a Safety Evaluation dated August 23, 2019.

No significant hazards consideration comments received: No.

STP Nuclear Operating Company, Docket Nos. 50-498 and 50-499, South Texas Project, Units 1 and 2, Matagorda County, Texas

Date of amendment request: March 27, 2018, as supplemented by letters dated December 6, 2018; May 16, 2019; and June 25, 2019.

Brief description of amendments: The amendments revised certain minimum voltage and frequency acceptance criteria for steady-state standby diesel generator surveillance requirement testing. Specifically, the amendments revised several subsections of Technical Specification ¾.8.1, “AC [Alternating Current] Sources, Operating,” to correct non-conservative acceptance criteria.

Date of issuance: August 20, 2019.

Effective date: As of the date of issuance and shall be implemented within 90 days of issuance.

Amendment Nos.: (216) Unit 1 and 202 (Unit 2). A publicly-available version is in ADAMS under Accession No. ML19213A147; documents related to these amendments are listed in the Safety Evaluation enclosed with the amendments.

Renewed Facility Operating License Nos. NPF-76 and NPF-80: The amendments revised the Renewed Facility Operating Licenses and Technical Specifications.

Date of initial notice in Federal Register: July 31, 2018 (83 FR 36978). The supplemental letters dated December 6, 2018; May 16, 2019; and June 25, 2019, provided additional information that clarified the application, did not expand the scope of the application as originally noticed, and did not change the NRC staff's original proposed no significant hazards consideration determination as published in the Federal Register.

The Commission's related evaluation of the amendments is contained in a Safety Evaluation dated August 20, 2019.

No significant hazards consideration comments received: No.

Tennessee Valley Authority, Docket Nos. 50-259, 50-260, and 50-296, Browns Ferry Nuclear Plant (Browns Ferry), Units 1, 2, and 3, Limestone County, Alabama

Date of amendment request: July 3, 2019.

Brief description of amendment: The amendments revised the Renewed Facility Operating Licenses (RFOLs) by changing license conditions for Browns Ferry, Units 1, 2, and 3, associated with the fire protection program controlled by 10 CFR 50.48(c), “National Fire Protection Association Standard NFPA 805.” The amendments extended the implementation due dates for Modifications 102 and 106 listed in Item 2 under “Transition License Conditions” in each unit's RFOL to the end of Browns Ferry Unit 1's Fall 2020 outage, and April 30, 2020, respectively. Accordingly, these amendments revised RFOLs paragraphs 2.C.(13) of Unit 1, 2.C.(14) of Unit 2, and 2.C.(7) of Unit 3 for Browns Ferry, Units 1, 2, and 3, respectively.

Date of issuance: August 13, 2019.

Effective date: As of the date of issuance and shall be implemented immediately.

Amendment Nos.: 308 (Unit 1), 331 (Unit 2), and 291 (Unit 3). A publicly-available version is in ADAMS under Accession No. ML19198A001; documents related to these amendments are listed in the Safety Evaluation enclosed with the amendments.

Renewed Facility Operating License Nos. DPR-33, DPR-52, and DPR-68: The amendments revised the Renewed Facility Operating Licenses.

Date of initial notice in Federal Register: July 11, 2019 (84 FR 33094).

The Commission's related evaluation of the amendments is contained in a Safety Evaluation dated August 13, 2019.

No significant hazards consideration comments received: One comment was received on August 12, 2019. The public comment and the NRC staff response are provided in the Safety Evaluation dated August 13, 2019.

Wolf Creek Nuclear Operating Corporation, Docket No. 50-482, Wolf Creek Generating Station, Unit 1, Coffey County, Kansas

Date of amendment request: January 23, 2019, as supplemented by letters dated March 11, 2019, and August 8, 2019.

Brief description of amendment: The amendment revised Technical Specification (TS) requirements in Section 1.3, “Completion Times,” and Section 3.0, “Limiting Condition for Operation (LCO) Applicability,” and “Surveillance Requirement (SR) Applicability,” to clarify and expand the use and application of the Wolf Creek Generating Station, Unit 1, TS usage rules. The TS changes are consistent with NRC-approved Technical Specifications Task Force (TSTF) Traveler TSTF-529, Revision 4, “Clarify Use and Application Rules.”

Date of issuance: August 19, 2019.

Effective date: As of the date of issuance and shall be implemented within 90 days from the date of issuance.

Amendment No.: 222. A publicly-available version is in ADAMS under Accession No. ML19182A345; documents related to this amendment are listed in the Safety Evaluation enclosed with the amendment.

Renewed Facility Operating License No. NPF-42. The amendment revised the Renewed Facility Operating License and TSs.

Date of initial notice in Federal Register: April 9, 2019 (84 FR 14154). The supplemental letter dated August 8, 2019, provided additional information that clarified the application, did not expand the scope of the application as originally noticed, and did not change the NRC staff's original proposed no significant hazards consideration determination as published in the Federal Register.

The Commission's related evaluation of the amendment is contained in a Safety Evaluation dated August 19, 2019.

No significant hazards consideration comments received: No.

V. Notice of Issuance of Amendments to Facility Operating Licenses and Combined Licenses and Final Determination of No Significant Hazards Consideration and Opportunity for a Hearing (Exigent Public Announcement or Emergency Circumstances)

During the period since publication of the last biweekly notice, the Commission has issued the following amendments. The Commission has determined for each of these amendments that the application for the amendment complies with the standards and requirements of the Atomic Energy Act of 1954, as amended (the Act), and the Commission's rules and regulations. The Commission has made appropriate findings as required by the Act and the Commission's rules and regulations in 10 CFR chapter I, which are set forth in the license amendment.

Because of exigent or emergency circumstances associated with the date the amendment was needed, there was not time for the Commission to publish, for public comment before issuance, its usual notice of consideration of issuance of amendment, proposed no significant hazards consideration determination, and opportunity for a hearing.

For exigent circumstances, the Commission has either issued a Federal Register notice providing opportunity for public comment or has used local media to provide notice to the public in the area surrounding a licensee's facility of the licensee's application and of the Commission's proposed determination of no significant hazards consideration. The Commission has provided a reasonable opportunity for the public to comment, using its best efforts to make available to the public means of communication for the public to respond quickly, and in the case of telephone comments, the comments have been recorded or transcribed as appropriate and the licensee has been informed of the public comments.

In circumstances where failure to act in a timely way would have resulted, for example, in derating or shutdown of a nuclear power plant or in prevention of either resumption of operation or of increase in power output up to the plant's licensed power level, the Commission may not have had an opportunity to provide for public comment on its no significant hazards consideration determination. In such case, the license amendment has been issued without opportunity for comment. If there has been some time for public comment but less than 30 days, the Commission may provide an opportunity for public comment. If comments have been requested, it is so stated. In either event, the State has been consulted by telephone whenever possible.

Under its regulations, the Commission may issue and make an amendment immediately effective, notwithstanding the pendency before it of a request for a hearing from any person, in advance of the holding and completion of any required hearing, where it has determined that no significant hazards consideration is involved.

The Commission has applied the standards of 10 CFR 50.92 and has made a final determination that the amendment involves no significant hazards consideration. The basis for this determination is contained in the documents related to this action. Accordingly, the amendments have been issued and made effective as indicated.

Unless otherwise indicated, the Commission has determined that these amendments satisfy the criteria for categorical exclusion in accordance with 10 CFR 51.22. Therefore, pursuant to 10 CFR 51.22(b), no environmental impact statement or environmental assessment need be prepared for these amendments. If the Commission has prepared an environmental assessment under the special circumstances provision in 10 CFR 51.12(b) and has made a determination based on that assessment, it is so indicated.

For further details with respect to the action see (1) the application for amendment, (2) the amendment to Facility Operating License or Combined License, as applicable, and (3) the Commission's related letter, Safety Evaluation and/or Environmental Assessment, as indicated. All of these items can be accessed as described in the “Obtaining Information and Submitting Comments” section of this document.

A. Opportunity To Request a Hearing and Petition for Leave to Intervene

The Commission is also offering an opportunity for a hearing with respect to the issuance of the amendment. Within 60 days after the date of publication of this notice, any persons (petitioner) whose interest may be affected by this action may file a request for a hearing and petition for leave to intervene (petition) with respect to the action. Petitions shall be filed in accordance with the Commission's “Agency Rules of Practice and Procedure” in 10 CFR part 2. Interested persons should consult a current copy of 10 CFR 2.309. The NRC's regulations are accessible electronically from the NRC Library on the NRC's website at https://www.nrc.gov/reading-rm/doc-collections/cfr/. Alternatively, a copy of the regulations is available at the NRC's Public Document Room, located at One White Flint North, Room O1-F21, 11555 Rockville Pike (first floor), Rockville, Maryland 20852. If a petition is filed, the Commission or a presiding officer will rule on the petition and, if appropriate, a notice of a hearing will be issued.

As required by 10 CFR 2.309(d) the petition should specifically explain the reasons why intervention should be permitted with particular reference to the following general requirements for standing: (1) The name, address, and telephone number of the petitioner; (2) the nature of the petitioner's right under the Act to be made a party to the proceeding; (3) the nature and extent of the petitioner's property, financial, or other interest in the proceeding; and (4) the possible effect of any decision or order which may be entered in the proceeding on the petitioner's interest.

In accordance with 10 CFR 2.309(f), the petition must also set forth the specific contentions which the petitioner seeks to have litigated in the proceeding. Each contention must consist of a specific statement of the issue of law or fact to be raised or controverted. In addition, the petitioner must provide a brief explanation of the bases for the contention and a concise statement of the alleged facts or expert opinion which support the contention and on which the petitioner intends to rely in proving the contention at the hearing. The petitioner must also provide references to the specific sources and documents on which the petitioner intends to rely to support its position on the issue. The petition must include sufficient information to show that a genuine dispute exists with the applicant or licensee on a material issue of law or fact. Contentions must be limited to matters within the scope of the proceeding. The contention must be one which, if proven, would entitle the petitioner to relief. A petitioner who fails to satisfy the requirements at 10 CFR 2.309(f) with respect to at least one contention will not be permitted to participate as a party.

Those permitted to intervene become parties to the proceeding, subject to any limitations in the order granting leave to intervene. Parties have the opportunity to participate fully in the conduct of the hearing with respect to resolution of that party's admitted contentions, including the opportunity to present evidence, consistent with the NRC's regulations, policies, and procedures.

Petitions must be filed no later than 60 days from the date of publication of this notice. Petitions and motions for leave to file new or amended contentions that are filed after the deadline will not be entertained absent a determination by the presiding officer that the filing demonstrates good cause by satisfying the three factors in 10 CFR 2.309(c)(1)(i) through (iii). The petition must be filed in accordance with the filing instructions in the “Electronic Submissions (E-Filing)” section of this document.

If a hearing is requested, and the Commission has not made a final determination on the issue of no significant hazards consideration, the Commission will make a final determination on the issue of no significant hazards consideration. The final determination will serve to establish when the hearing is held. If the final determination is that the amendment request involves no significant hazards consideration, the Commission may issue the amendment and make it immediately effective, notwithstanding the request for a hearing. Any hearing would take place after issuance of the amendment. If the final determination is that the amendment request involves a significant hazards consideration, then any hearing held would take place before the issuance of the amendment unless the Commission finds an imminent danger to the health or safety of the public, in which case it will issue an appropriate order or rule under 10 CFR part 2.

A State, local governmental body, Federally-recognized Indian Tribe, or agency thereof, may submit a petition to the Commission to participate as a party under 10 CFR 2.309(h)(1). The petition should state the nature and extent of the petitioner's interest in the proceeding. The petition should be submitted to the Commission no later than 60 days from the date of publication of this notice. The petition must be filed in accordance with the filing instructions in the “Electronic Submissions (E-Filing)” section of this document, and should meet the requirements for petitions set forth in this section, except that under 10 CFR 2.309(h)(2) a State, local governmental body, or Federally-recognized Indian Tribe, or agency thereof does not need to address the standing requirements in 10 CFR 2.309(d) if the facility is located within its boundaries. Alternatively, a State, local governmental body, Federally-recognized Indian Tribe, or agency thereof may participate as a non-party under 10 CFR 2.315(c).

If a hearing is granted, any person who is not a party to the proceeding and is not affiliated with or represented by a party may, at the discretion of the presiding officer, be permitted to make a limited appearance pursuant to the provisions of 10 CFR 2.315(a). A person making a limited appearance may make an oral or written statement of his or her position on the issues but may not otherwise participate in the proceeding. A limited appearance may be made at any session of the hearing or at any prehearing conference, subject to the limits and conditions as may be imposed by the presiding officer. Details regarding the opportunity to make a limited appearance will be provided by the presiding officer if such sessions are scheduled.

B. Electronic Submissions (E-Filing)

All documents filed in NRC adjudicatory proceedings, including a request for hearing and petition for leave to intervene (petition), any motion or other document filed in the proceeding prior to the submission of a request for hearing or petition to intervene, and documents filed by interested governmental entities that request to participate under 10 CFR 2.315(c), must be filed in accordance with the NRC's E-Filing rule (72 FR 49139; August 28, 2007, as amended at 77 FR 46562; August 3, 2012). The E-Filing process requires participants to submit and serve all adjudicatory documents over the internet, or in some cases to mail copies on electronic storage media. Detailed guidance on making electronic submissions may be found in the Guidance for Electronic Submissions to the NRC and on the NRC website at https://www.nrc.gov/site-help/e-submittals.html. Participants may not submit paper copies of their filings unless they seek an exemption in accordance with the procedures described below.

To comply with the procedural requirements of E-Filing, at least 10 days prior to the filing deadline, the participant should contact the Office of the Secretary by email at hearing.docket@nrc.gov, or by telephone at 301-415-1677, to (1) request a digital identification (ID) certificate, which allows the participant (or its counsel or representative) to digitally sign submissions and access the E-Filing system for any proceeding in which it is participating; and (2) advise the Secretary that the participant will be submitting a petition or other adjudicatory document (even in instances in which the participant, or its counsel or representative, already holds an NRC-issued digital ID certificate). Based upon this information, the Secretary will establish an electronic docket for the hearing in this proceeding if the Secretary has not already established an electronic docket.

Information about applying for a digital ID certificate is available on the NRC's public website at https://www.nrc.gov/site-help/e-submittals/getting-started.html. Once a participant has obtained a digital ID certificate and a docket has been created, the participant can then submit adjudicatory documents. Submissions must be in Portable Document Format (PDF). Additional guidance on PDF submissions is available on the NRC's public website at https://www.nrc.gov/site-help/electronic-sub-ref-mat.html. A filing is considered complete at the time the document is submitted through the NRC's E-Filing system. To be timely, an electronic filing must be submitted to the E-Filing system no later than 11:59 p.m. Eastern Time on the due date. Upon receipt of a transmission, the E-Filing system time-stamps the document and sends the submitter an email notice confirming receipt of the document. The E-Filing system also distributes an email notice that provides access to the document to the NRC's Office of the General Counsel and any others who have advised the Office of the Secretary that they wish to participate in the proceeding, so that the filer need not serve the document on those participants separately. Therefore, applicants and other participants (or their counsel or representative) must apply for and receive a digital ID certificate before adjudicatory documents are filed so that they can obtain access to the documents via the E-Filing system.

A person filing electronically using the NRC's adjudicatory E-Filing system may seek assistance by contacting the NRC's Electronic Filing Help Desk through the “Contact Us” link located on the NRC's public website at https://www.nrc.gov/site-help/e-submittals.html, by email to MSHD.Resource@nrc.gov, or by a toll-free call at 1-866-672-7640. The NRC Electronic Filing Help Desk is available between 9 a.m. and 6 p.m., Eastern Time, Monday through Friday, excluding government holidays.

Participants who believe that they have a good cause for not submitting documents electronically must file an exemption request, in accordance with 10 CFR 2.302(g), with their initial paper filing stating why there is good cause for not filing electronically and requesting authorization to continue to submit documents in paper format. Such filings must be submitted by: (1) First class mail addressed to the Office of the Secretary of the Commission, U.S. Nuclear Regulatory Commission, Washington, DC 20555-0001, Attention: Rulemaking and Adjudications Staff; or (2) courier, express mail, or expedited delivery service to the Office of the Secretary, 11555 Rockville Pike, Rockville, Maryland 20852, Attention: Rulemaking and Adjudications Staff. Participants filing adjudicatory documents in this manner are responsible for serving the document on all other participants. Filing is considered complete by first-class mail as of the time of deposit in the mail, or by courier, express mail, or expedited delivery service upon depositing the document with the provider of the service. A presiding officer, having granted an exemption request from using E-Filing, may require a participant or party to use E-Filing if the presiding officer subsequently determines that the reason for granting the exemption from use of E-Filing no longer exists.

Documents submitted in adjudicatory proceedings will appear in the NRC's electronic hearing docket which is available to the public at https://adams.nrc.gov/ehd, unless excluded pursuant to an order of the Commission or the presiding officer. If you do not have an NRC-issued digital ID certificate as described above, click “cancel” when the link requests certificates and you will be automatically directed to the NRC's electronic hearing dockets where you will be able to access any publicly available documents in a particular hearing docket. Participants are requested not to include personal privacy information, such as social security numbers, home addresses, or personal phone numbers in their filings, unless an NRC regulation or other law requires submission of such information. For example, in some instances, individuals provide home addresses in order to demonstrate proximity to a facility or site. With respect to copyrighted works, except for limited excerpts that serve the purpose of the adjudicatory filings and would constitute a Fair Use application, participants are requested not to include copyrighted materials in their submission.

Energy Northwest, Docket No. 50-397, Columbia Generating Station, Benton County, Washington

Date of amendment request: August 15, 2019, as supplemented by letters dated August 16, 2019; August 19, 2019; and August 20, 2019.

Description of amendment: The amendment added a one-time extension to the Completion Time of Technical Specification Action 3.8.7.A from 8 hours to 16 hours.

Date of issuance: August 26, 2019.

Effective date: As of the date of issuance and shall be implemented from the issuance date until 0800 Pacific Standard Time on September 14, 2019.

Amendment No.: 254. A publicly-available version is in ADAMS under Accession No. ML19234A016; documents related to this amendment are listed in the Safety Evaluation enclosed with the amendment.

Renewed Facility Operating License No. NPF-21: The amendment revised the Renewed Facility Operating License and Technical Specifications.

Public comments requested as to proposed no significant hazards consideration (NSHC): Yes. Public notice of the proposed amendment was published in the Tri-City Herald located in Kennewick, Washington, from August 18, 2019, through August 20, 2019. The notice provided an opportunity to submit comments on the Commission's proposed NSHC determination. No comments have been received.

The Commission's related evaluation of the amendment, finding of exigent circumstances, State consultation, and final NSHC determination are contained in a Safety Evaluation dated August 26, 2019.

Attorney for licensee: William A. Horin, Esq., Winston & Strawn, 1700 K Street NW, Washington, DC 20006-3817.

NRC Branch Chief: Robert J. Pascarelli.

Dated at Rockville, Maryland, this 3rd day of September 2019.
For the Nuclear Regulatory Commission.
Jamie M. Heisserer,
Acting Deputy Director, Division of Operating Reactor Licensing, Office of Nuclear Reactor Regulation.

[FR Doc. 2019-19331 Filed 9-9-19; 8:45 am]

BILLING CODE 7590-01-P